DEPARTMENT OF ENERGY

Federal Energy Regulatory Commission

Combined Notice of Filings #2

Take notice that the Commission received the following electric corporate filings:

Docket Numbers: EC16-90-000.

Applicants: Virginia Electric and Power Company.

Description: Supplement to March 22, 2016 Application for Authorization under Section 203 of the FPA (Revised Accounting Entries) of Virginia Electric and Power Company.

Filed Date: 4/20/16.

Accession Number: 20160420-5104.

Comments Due: 5 p.m. ET 5/11/16.

Take notice that the Commission received the following electric rate filings:

Docket Numbers: ER16-1470-000.

Applicants: Fauquier Landfill Gas, LLC.

Description: Tariff Cancellation: Cancellation of MBR Tariff to be effective 4/21/2016.

Filed Date: 4/20/16.

Accession Number: 20160420-5098.

Comments Due: 5 p.m. ET 5/11/16.

Docket Numbers: ER16-1471-000.

Applicants: Fauquier Landfill Gas, LLC.

Description: Tariff Cancellation: Cancellation of MBR Tariff to be effective 4/21/2016.

Filed Date: 4/20/16.

Accession Number: 20160420-5108.

Comments Due: 5 p.m. ET 5/11/16.

Docket Numbers: ER16-1472-000.

Applicants: Southern California Edison Company.

Description: § 205(d) Rate Filing: 2016 Revised Added Facilities Rate under WDAT—Filing No. 9 to be effective 1/1/2016.

Filed Date: 4/20/16.

Accession Number: 20160420-5125.

Comments Due: 5 p.m. ET 5/11/16.

Docket Numbers: ER16-1473-000.

Applicants: NSTAR Electric Company.

Description: Tariff Cancellation: Notice of Cancelation of NRG Canal 3 Design and Engineering Agreement to be effective 3/24/2016.

Filed Date: 4/20/16.

Accession Number: 20160420-5138.

Comments Due: 5 p.m. ET 5/11/16.

Docket Numbers: ER16-1474-000.

Applicants: PJM Interconnection, L.L.C.

Description: § 205(d) Rate Filing: First Revised Service Agreement Nos. 3736 and 3737; Queue No. Y3-026 to be effective 5/1/2015.

Filed Date: 4/20/16.

Accession Number: 20160420-5143.

Comments Due: 5 p.m. ET 5/11/16.

Docket Numbers: ER16-1475-000.

Applicants: Arizona Public Service Company.

Description: § 205(d) Rate Filing: Rate Schedule No. 217 Exhibit B.RVL to be effective 6/20/2016.

Filed Date: 4/20/16.

Accession Number: 20160420-5150.

Comments Due: 5 p.m. ET 5/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2016.
Nathaniel J. Davis, Sr.,
Deputy Secretary.

[FR Doc. 2016-09624 Filed 4-25-16; 8:45 am]

BILLING CODE 6717-01-P